DEPARTMENT OF COMMERCE

Foreign-Trade Zones Board

(Docket 46-2010)

Foreign-Trade Zone 138 - Columbus, Ohio Area, Application for Reorganization under Alternative Site Framework

An application has been submitted to the Foreign-Trade Zones (FTZ) Board (the Board) by the Columbus Regional Airport Authority, grantee of FTZ 138, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on July 21, 2010.

FTZ 138 was approved on March 13, 1987 (Board Order 351, 52 FR 9319, 3/24/87) and expanded on February 23, 1994 (Board Order 685, 59 FR 10783, 3/8/94), on November 9, 1999 (Board Order 1063, 64 FR 63786, 11/22/99), on May 29, 2001 (Board Order 1166, 66 FR 32933, 6/19/01), on December 19, 2003 (Board Order 1311, 69 FR 49, 1/2/04) and on November 2, 2007 (Board Order 1530, 72 FR 65563; 11/21/07).

The general-purpose zone currently consists of the following sites: Site 1 (3,787 acres total) -- portions of the Rickenbacker Inland Port - includes certain acreage within the Rickenbacker International Airport and Air Industrial Park, Alum Creek East Industrial Park, Alum Creek West Industrial Park, and Groveport Commerce Center, Franklin County; Site 2 (136 acres) -- Gateway Business Park, McClain Road, Lima, Allen County; Site 3 (42 acres) -- within the 90-acre Gateway Interchange Industrial Park, State Route 104 and U.S. Route 35, Chillicothe, Ross County; Site 4 (64 acres, 2 parcels) -- within the 960-acre Rock Mill Industrial Park, south of Mill Park Drive, Lancaster, Fairfield County; Site 5 (133 acres) -- within the 149-acre D.O. Hall Business Center, State Route 660 and north of Reitler Road, Cambridge, Guernsey County; Site 6 (74 acres, 2 parcels) -- within the Eagleton Industrial Park, State Route 142 and west of Spring Valley Road, London, Madison County; Site 12 (31 acres) -- Marion Industrial Park, 1110 Cheney Avenue, Marion, Marion County; Site 13 (41 acres) -- Capital Park South, 3125-3325 Lewis Centre Way, Grove City, Franklin County; Site 14 (27 acres) -- Southpointe Industrial Park, 3901 Gantz Road, Grove City, Franklin County; Site 15 (50 acres, sunset 12/31/2011) -- Columbus Industrial District, located at 4545 Fisher Road, Columbus, Franklin County; Site 16 (74 acres, expires 9/1/2010) -- located at 1809 Wilson Road, Columbus, Franklin County; Site 17 (9 acres, expires 7/31/2011) -- Quarry East Commerce Center (Drew Shoe Company), located at 252 Quarry Drive, Lancaster, Fairfield County; Site 18 (22 acres, expires 9/1/2010) -- located at 700 Manor Park, Columbus, Franklin County; and, Site 19 (1 acre, expires 9/1/2010) -- located at 330 Oak Street, Columbus, Franklin County.

The grantee's proposed service area under the ASF would be Athens, Champaign, Clark, Coshocton, Crawford, Delaware, Fairfield, Franklin, Guernsey, Highland, Hocking, Knox, Licking, Logan, Madison, Marion, Morrow, Muskingum, Perry, Pickaway, Pike, Ross, Union, Vinton and Wyandot Counties, Ohio, as described in the application. If approved, the grantee would be able to serve sites throughout the service area based on companies' needs for FTZ designation. The proposed service area is within and adjacent to the Columbus Customs and Border Protection port of entry. The grantee also proposes to retain its existing site (Site 2) in Lima (Allen County).

The applicant is requesting authority to reorganize its existing zone project to include Sites 1, 2, 4, 5, 6 and 15 as “magnet” sites and Sites 13, 14, 16, 17 and 18 as “usage-driven” sites. The ASF allows for the possible exemption of one magnet site from the “sunset” time limits that generally apply to sites under the ASF, and the applicant proposes that Site 1 be so exempted. The applicant is also requesting authority to remove 193 acres of undeveloped land from Site 1 (Alum Creek West Industrial Park), to remove 41 acres from Site 2, to delete Site 3 in its entirety, to remove 29 acres from Site 4, to remove 6 acres from Site 6, to remove 33 acres from Site 13, to remove 20 acres from Site 14, and to delete Site 19 in its entirety. Because the ASF only pertains to establishing or reorganizing a general-purpose zone, the application would have no impact on FTZ 138's authorized subzones.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is October 1, 2010. Rebuttal comments in response to material submitted during the foregoing period may be submitted during the subsequent 15-day period to October 18, 2010.

A copy of the application will be available for public inspection at the Office of the Executive Secretary, Foreign-Trade Zones Board, Room 2111, U.S. Department of Commerce, 1401 Constitution Avenue NW, Washington, DC 20230-0002, and in the “Reading Room” section of the Board's website, which is accessible via www.trade.gov/ftz. For further information, contact Elizabeth Whiteman at Elizabeth.Whiteman@trade.gov or (202) 482-0473.

Dated: July 21, 2010.
Andrew McGilvray
Executive Secretary.

[FR Doc. 2010-18956 Filed 7-30-10; 8:45 am]

BILLING CODE 3510-DS-S